Title 3—

The President

Proclamation 10781 of July 1, 2024

60th Anniversary of the Civil Rights Act

By the President of the United States of America

A Proclamation

Sixty years ago, President Lyndon B. Johnson signed into law one of the most significant pieces of civil rights legislation in history—the Civil Rights Act of 1964. It prohibited discrimination on the basis of race, color, religion, sex, or national origin. That day, our Nation moved closer to our North Star, the founding ideal of America: We are all created equal and deserve to be treated equally throughout our lives. We have never fully lived up to that idea, but we have never walked away from it either. On this anniversary, we promise we will not walk away from it now.

On July 2, 1964, when President Johnson signed the Civil Rights Act, a crowd gathered behind him. Among them were some of the Black leaders and activists who had led the movement that made it possible: Dr. Martin Luther King, Jr., A. Philip Randolph, Dr. Dorothy Height, and others, who had fought, protested, and prayed for this moment. It was the work of changemakers like them—from the countless protests, sit-ins, and marches they organized to the many speeches and sermons they gave—and the courageous activism and participation of everyday Americans that brought the bill to President Johnson's desk. It was an answer to President John F. Kennedy's call for national action to guarantee the equal treatment of every American regardless of race. Change only rippled out from there: The Civil Rights Act of 1964 also helped set the foundation for other critical legislation like the Voting Rights Act of 1965.

The legacies of those activists and extraordinary Americans have had a profound impact on me and others of my generation. It inspired me to become a public defender and then a county councilman, working to change our State's politics to embrace the cause of civil rights. Their efforts made us fundamentally better as Americans, opening the doors of opportunity wider and bringing our Nation closer to its promise of liberty, equality, and justice for all.

Despite this critical step forward, securing our civil rights remains the unfinished fight of our time. Our country is still facing attacks to some of our most fundamental civil liberties and rights, including the right to vote and have that vote counted and the right to live free from the threat of violence, hate, and discrimination. That is why my Administration is remaining vigilant—fighting actively to protect the rights of every American. I signed the Electoral Count Reform Act to protect the will of the people and the peaceful transfer of power. I appointed Justice Ketanji Brown Jackson, the first Black woman to be on the Supreme Court, and have appointed more Black women to the Federal appellate court than every other President in history.

We are also working to reverse the shameful legacy of segregation in our country and creating new opportunities for every American to thrive. My Administration is investing more money than ever in Black families and Black communities. We are reconnecting historic business districts and neighborhoods cut off by old highways, redlining, and decades of discrimination and disinvestment. We have invested over $16 billion in Historically Black Colleges and Universities, which will help raise the next generation of Black leaders. At the same time, we are creating good-paying jobs that people can raise a family on; making capital and loans for starting small businesses and buying homes more accessible; and making health insurance and prescription drugs more affordable. I also signed the boldest policing reform Executive Order in history. My Administration is changing our Nation's failed approach to marijuana, which disproportionately impacts communities of color. I have used executive clemency more than any recent President at this point in my Presidency in pursuit of justice and fairness. And I continue to call on the Congress to pass the John Lewis Voting Rights Advancement Act and the Freedom to Vote Act—it is the only way to fully secure the sacred right to vote.

On this anniversary, may we recommit to continuing the work that the Civil Rights Act began six decades ago—it is still the task of our time to build a democracy where every American is treated with dignity and has an equal opportunity to follow their dreams. We must continue to move forward together, stand with one another, and choose democracy over autocracy and beloved community over chaos. We must choose to be believers, dreamers, and doers.

NOW, THEREFORE, I, JOSEPH R. BIDEN JR., President of the United States of America, by virtue of the authority vested in me by the Constitution and the laws of the United States, do hereby proclaim July 2, 2024, as the 60th Anniversary of the Civil Rights Act. I call upon all Americans to observe this day with programs, ceremonies, and activities that celebrate this accomplishment and advance civil rights in our time.

IN WITNESS WHEREOF, I have hereunto set my hand this first day of July, in the year of our Lord two thousand twenty-four, and of the Independence of the United States of America the two hundred and forty-eighth.

[FR Doc. 2024-15027

Filed 7-5-24; 8:45 am]

Billing code 3395-F4-P